COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: September 12, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On June 14, and June 18, 2004, the Committee for Purchase From People Who Are Blind or Severely Disabled published notice (69 FR 32975/76 and, 34121) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Bag, T-Shirt Style (Defense Commissary Agency Requirements for the Southern and Central Regions only), 8105-00-NIB-1023.

NPA: Envision, Inc., Wichita, Kansas.

Contract Activity: Defense Commissary Agency, Fort Lee, Virginia.

Product/NSN: Belt, Rigger's,

8415-01-517-0305 (Size 34, Color: Black),

8415-01-517-0308 (Size 40, Color: Black),

8415-01-517-0310 (Size 46, Color: Black),

8415-01-517-0946 (Size 34, Color: Brown),

8415-01-517-0948 (Size 40, Color: Brown),

8415-01-517-0949 (Size 46, Color: Brown),

8415-01-517-0951 (Size 34, Color: Gray),

8415-01-517-0954 (Size 46, Color: Gray),

8415-01-517-0961 (Size 40, Color: Gray),

8415-01-517-1046 (Size 34, Color: Green),

8415-01-517-1051 (Size 40, Color: Green),

8415-01-517-1055 (Size 46, Color: Green),

8415-01-517-1079 (Size 34, Color: Tan),

8415-01-517-1081 (Size 40, Color: Tan),

8415-01-517-1083 (Size 46, Color: Tan).

NPA: Travis Association for the Blind, Austin, Texas.

Contract Activity: Defense Supply Center Philadelphia, Philadelphia, Pennsylvania.

Product/NSN: Tray, Mess, Compartmented, 7350-01-411-5266.

NPA: The Lighthouse for the Blind in New Orleans, New Orleans, Louisiana.

Contract Activity: GSA, Southwest Supply Center, Fort Worth, Texas.

Services

Service Type/Location: Administrative Service Program Executive Office (PEO) Aviation. At the following locations: Fort Bragg, North Carolina, Fort Campbell, Kentucky, Fort Rucker, Alabama, Fort Hood, Texas, Fort Huachuca, Arizona, Huntsville, Alabama, Redstone Arsenal, Alabama.

NPA: Huntsville Rehabilitation Foundation, Huntsville, Alabama.

Contract Activity: U.S. Army Aviation and Missile Command, Huntsville, Alabama.

Service Type/Location: Post-wide Administrative Services, Fort McPherson, Georgia.

Service Type/Location: Post-wide Administrative Services, Fort Gillem, Georgia.

NPA: WORKTEC, Jonesboro, Georgia.

Contract Activity: U.S. Army, ACA SRCC, Fort McPherson, Georgia.

This action does not affect current contracts awarded prior to the effective date of this addition or options that may be exercised under those contracts.

Sheryl D. Kennerly,
Director, Information Management.

[FR Doc. 04-18545 Filed 8-12-04; 8:45 am]

BILLING CODE 6353-01-P